DEPARTMENT OF STATE

[Public Notice 3690]

Determination Regarding Export-Import Bank Financing of Certain Defense Articles and Services for the Government of Venezuela

Pursuant to section 2(b)(6) of the Export-Import Bank Act of 1945, as amended, and Executive Order 11958 of January 18, 1977, as amended by Executive Order 12680 of July 5, 1989, I hereby determine that:

(1) The defense articles and services for which the Government of Venezuela has requested Export-Import Bank (Ex-Im) financing, reverse-osmosis water purification equipment for the modification of four armed Light Surface Transport (LST) vessels as part of an ongoing planned modification and upgrading of the vessels, are being sold primarily for anti-narcotics purposes.

(2) The sale of such defense articles and services is in the national interest of the United States.

(3) The requirements for a determination that the Government of Venezuela has complied with all U.S.-imposed enduse restrictions on the use of defense articles and services previously financed under the Act is inapplicable at this time because the three previous transactions have not been completed. Specifically, although Ex-Im has approved financing in connection with the refurbishment of 12 OV-10 aircraft, the refurbishment has not been completed; two 150-foot logistic support vessels sold with Ex-Im financing have not been delivered; and parts financed by Ex-Im for the modification of four frigates have not been installed.

(4) The requirement for a determination that the Government of Venezuela has not used defense articles or services previously provided under the Act to engage in a consistent pattern of gross violations of internationally recognized human rights is also inapplicable at this time. As stated above, Ex-Im financing has been used in connection with three defense articles or services transactions involving the Government of Venezuela. One transaction involves the refurbishment of aircraft, the second the delivery of two vessels, and the third the modification of four vessels, none of which has been completed.

This determination shall be reported to Congress and shall be published in the Federal Register.

Dated: April 24, 2001.
Colin L. Powell,
Secretary of State.

[FR Doc. 01-14387 Filed 6-6-01; 8:45 am]

BILLING CODE 4710-07-U